DEPARTMENT OF JUSTICE

National Institute of Corrections

Solicitation for a Cooperative Agreement—Critical Issues in Managing Women Offenders

AGENCY: National Institute of Corrections, Department of Justice.

ACTION: Correction to solicitation due date.

SUMMARY: This announcement is to correct the due date in the above notice which was published on June 9, 2000 in the Federal Register on Page 36725 in the paragraph entitled: Deadline for Receipt of Applications. The correct due date is Monday, July 17, 2000.

Dated: June 15, 2000.
Larry B. Solomon,
Deputy Director, National Institute of Corrections.

[FR Doc. 00-15574 Filed 6-20-00; 8:45 am]

BILLING CODE 4410-36-M